OFFICE OF PERSONNEL MANAGEMENT

45 CFR Part 801

RIN 3206-AL40

Voting Rights Program

AGENCY: Office of Personnel Management.

ACTION: Final rule.

SUMMARY: The Office of Personnel Management (OPM) is removing part 801 of title 45, Code of Federal Regulations, Voting Rights Program, which prescribes the times, places, manner and procedures for the listing and removal of the names of persons on voter eligibility lists in accordance with sections 6, 7, and 9 of the Voting Rights Act of 1965. Enactment of Public Law 109-246, the Fannie Lou Hamer, Rosa Parks, and Coretta Scott King Voting Rights Reauthorization and Amendments Act of 2006 repealed sections 6, 7, and 9 of the Voting Rights Act of 1965, which included the statutory authority for OPM's promulgation of these regulations (Pub. L. 109-246, Section 3. Changes relating to use of examiners and observers. “(c) Repeal of Sections Relating to Examiners.—Sections 6, 7, and 9 of the Voting Rights Act of 1965 (42 U.S.C. 1973d, 1973e and 1973g) are repealed.”). Therefore, OPM is no longer authorized to maintain these regulations.

DATES: Effective date: April 7, 2008. Comment date: Submit comments on or before June 6, 2008.

ADDRESSES: Send or deliver written comments to Chris Hammond, Voting Rights Program Manager, Office of Personnel Management, 1900 E Street, NW., Room 2469R, Washington, DC 20415; by FAX to (202) 606-0398; or by e-mail to Chris.Hammond@opm.gov.

FOR FURTHER INFORMATION CONTACT: Chris Hammond by telephone at (202) 606-5262; by FAX at (202) 606-0398; or by e-mail at Chris.Hammond@opm.gov.

SUPPLEMENTARY INFORMATION: On July 27, 2006, the President signed the Fannie Lou Hamer, Rosa Parks, and Coretta Scott King Voting Rights Act Reauthorization and Amendments Act of 2006 (VRARA), Public Law 109-246, into law. The VRARA reauthorized many of the temporary provisions of the Voting Rights Act of 1965, Public Law 89-110, for an additional 25 years, but repealed sections 6, 7, and 9, which had authorized the Federal examiner program. Additionally, the VRARA amended other sections of the Voting Rights Act by removing all references to Federal examiners.

Purpose and Scope

The Voting Rights Act, as reauthorized and amended by the VRARA, continues in full force and effect to prohibit discrimination in voting on the basis of race or color and to provide protections for designated language minority groups. The Office of Personnel Management (OPM) will continue to assign, at the request of the Attorney General, Federal observers under the authority of the Voting Rights Act, to monitor and report on election procedures in certified political subdivisions (typically counties or parishes).

The sole purpose of OPM's removal of part 801 of title 45, Code of Federal Regulations, is to implement Congress' repeal of the Federal examiner program in the VRARA. This removal does not affect the Procedures for the Voting Rights Act promulgated by the Department of Justice (DOJ), parts 51 and 55 of title 28, Code of Federal Regulations.

The Voting Rights Act—Generally

The Voting Rights Act, signed by President Lyndon B. Johnson on August 6, 1965, and amended in 1970, 1975, 1982, 1992, and 2006, enforces the permanent guarantee of the Fifteenth Amendment to the Constitution that no person shall be denied the right to vote on account of race or color, among other protections. In addition, the Voting Rights Act contains several special temporary provisions that impose more stringent requirements on covered jurisdictions in certain areas of the country and provides protections for designated language minority groups. Under the Voting Rights Act, DOJ is responsible for enforcement and OPM is responsible for providing Federal observers to monitor and report on the election process in areas designated by the Attorney General or a Federal court. Prior to enactment of the VRARA, the Voting Rights Act authorized the Attorney General to request that OPM assign Federal examiners to certified jurisdictions to ensure that legally qualified persons were free to register for Federal, State, and local elections.

The Federal Examiner Program

Sections 6, 7, and 9 of the Voting Rights Act, previously codified at 42 U.S.C. 1973d, 1973e, and 1973g (2005), established the Federal examiner program. Under this program, persons in covered political subdivisions could attest to their eligibility to vote in Federal, State, and local elections by applying to a Federal examiner when such an examiner had been designated to serve in the jurisdiction. The examiner would, in turn, assess the applicant's voter qualifications as prescribed by State law and consistent with the Constitution and laws of the United States, and—if the person were eligible—instruct the voter's county/parish to include him/her on its voter rolls. Such voters could then not be removed from local voter rolls unless and until approval had been obtained from the Federal examiner. The OPM (formerly the Civil Service Commission) was responsible for administering the program and was authorized to promulgate regulations prescribing the times, places, manner and procedures for the listing and removal of the names of persons on voter eligibility lists. In accordance with this responsibility, OPM promulgated regulations for the Federal examiner program at part 801 of title 45, Code of Federal Regulations.

Congressional Hearings on Reauthorization and Amendment

With various provisions of the Voting Rights Act, including those establishing the Federal examiner program (sections 6, 7, and 9), scheduled to expire in 2007, Congress held hearings in 2005 and 2006 on reauthorization and amendment of the Voting Rights Act. During these hearings, Congress heard testimony from voting rights experts and representatives from OPM and DOJ who had worked with and supported the Federal examiner program. Congressional testimony revealed that Federal examiners had not been used to list eligible voters since 1983 and enactment of the National Voter Registration Act of 1993 (NVRA), Public Law 103-31, and the Help America Vote Act of 2002 (HAVA), Public Law 107-252, has significantly improved voter registration. Under the NVRA, States are required to make registration materials available at all driver's license offices, public benefits offices, and other social service agencies. States are also required to maintain voter registration lists for Federal elections in accordance with standards set out by the NVRA. Under HAVA, States are required to meet minimum standards with regard to updating voting equipment, administering provisional balloting, and maintaining one centrally located Statewide voter registration list. Therefore, in the final version of the bill to reauthorize and amend the Voting Rights Act (H.R. 9), Congress chose to include provisions to repeal sections 6, 7, and 9 and remove all references to Federal examiners. See H. Rept. 109-478, 2d Sess., at 61-62 (2006).

Repeal of Authority for the Federal Examiner Program and Attendant Regulations

On July 27, 2006, the President signed the VRARA into law, thereby repealing sections 6, 7 and 9 of the Voting Rights Act and eliminating the Federal examiner program. Section 9 had previously provided the statutory authority for OPM to promulgate regulations prescribing the times, places, manner and procedures for the listing and removal of the names of persons on voter eligibility lists. Therefore, OPM is no longer authorized to maintain part 801 of title 45, Code of Federal Regulations.

Conclusion of the Federal Examiner Program

Removal of part 801 of title 45, Code of Federal Regulations, is consistent with repeal of authority for the Federal examiner program. The DOJ and OPM have taken additional steps to effectuate the conclusion of the Federal examiner program. By letter dated May 1, 2007, the Chief of the Voting Section, DOJ, notified the five States affected by the end of the Federal examiner program (Alabama, Georgia, Mississippi, Louisiana, and South Carolina) that enactment of the VRARA had ended the program and enclosed, for each State, a final listing of remaining eligible voters listed by Federal examiners. The DOJ letter informed these States that final responsibility for making determinations on whether these Federally listed voters remain eligible in accordance with voter qualifications prescribed by State law and consistent with the Constitution and laws of the United States now rests with these States and their counties or parishes. Similarly, by letters dated May 17 or 18, 2007, OPM notified affected counties and parishes in those States that the Federal examiner program had ended and enclosed a copy of the DOJ letter to the respective State. OPM has also returned all unprocessed requests from counties and parishes to remove names from Federal examiner lists.

Regulatory Flexibility Act

I certify that this regulation will not have a significant economic impact on a substantial number of small entities because it pertains only to the removal of regulatory language made obsolete in 2006 by the enactment of Public Law 109-246.

Executive Order 12866, Regulatory Review

This rule has been reviewed by the Office of Management and Budget in accordance with Executive Order 12866.

List of Subjects in 45 CFR Part 801

Public welfare, Voting Rights Program.

Office of Personnel Management.
Linda M. Springer,
Director.

Therefore, under the authority of the Fannie Lou Hamer, Rosa Parks, and Coretta Scott King Voting Rights Act Reauthorization and Amendments Act of 2006, OPM removes part 801.

PART 801—[REMOVED]

[FR Doc. E8-7142 Filed 4-4-08; 8:45 am]

BILLING CODE 6325-38-P